FEDERAL RESERVE SYSTEM

Change in Bank Control Notices, Acquisition of Shares of Bank or Bank Holding Companies; Correction

This notice corrects a notice (FR Doc. 07-1536) published on pages 4507-4508 of the issue for Wednesday, January 31, 2007.

Under the Federal Reserve Bank of Atlanta heading, the entry for Brenda Morris Griner, is revised to read as follows:

A. Federal Reserve Bank of Atlanta (Andre Anderson, Vice President) 1000 Peachtree Street, N.E., Atlanta, Georgia 30309:

1. Brenda Morris Griner, Columbia, Mississippi; to acquire additional voting shares of First Federal Bancorp, and thereby indirectly acquire additional voting shares of First Southern Bank, both of Columbia, Mississippi.

Comments on this application must be received by February 15, 2007.

Board of Governors of the Federal Reserve System, January 31, 2007.
Robert deV. Frierson,
Deputy Secretary of the Board.

[FR Doc. E7-1780 Filed 2-2-07; 8:45 am]

BILLING CODE 6210-01-S